SECURITIES AND EXCHANGE COMMISSION

Proposed Collection; Comment Request

Upon Written Request, Copies Available From: Securities and Exchange Commission, Office of Investor Education and Advocacy, Washington, DC 20549-0213.

New Collection: Title: Individual Investor Plain English Survey Project. SEC File No. 270-570 , OMB Control No. 3235-XXXX.

Notice is hereby given that pursuant to the Paperwork Reduction Act of 1995 (44 U.S.C. 3501 et seq.) the Securities and Exchange Commission (the “SEC” or the “Commission”) is soliciting comments on the collections of information summarized below. The Commission plans to submit this collection of information to the Office of Management and Budget (“OMB”) for approval.

The SEC's Office of Investor Education and Advocacy seeks to commence a collection of information. The title of this collection is the Individual Investor Plain English Survey Project. This project will conduct focus groups and telephone surveys of individual investors in SEC registered securities, plus similar surveys of non-investors. The project will seek to gauge the level of individual investor satisfaction with current and potential future SEC-mandated disclosures, to learn whether investors and non-investors believe such disclosures are written in plain English and are reader-friendly, and to ask individual investors how such disclosures might be improved. The Commission will use this information in order to gain a comprehensive understanding of a range of views. The SEC intends to hire a professional survey firm to conduct the focus groups and telephone surveys. The total annual reporting and recordkeeping burden of this collection of information is estimated to be less than 1,000 burden hours.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, C/O Shirley Martinson, 6432 General Green Way, Alexandria, Virginia 22312 or send an e-mail to: PRA_Mailbox@sec.gov.

Dated: October 29, 2007.
Nancy M. Morris,
Secretary.

[FR Doc. E7-21533 Filed 11-1-07; 8:45 am]

BILLING CODE 8011-01-P